SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: January 1-31, 2021

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (e) and 18 CFR 806.22 (f) for the time period specified above:

Water Source Approval—Issued Under 18 CFR 806.22(f)

1. Frontier Natural Resources, Inc.; Pad ID: Winner 6 Well Pad; ABR-201110026.R1; East Keating Township, Clinton County, Pa.; Consumptive Use of Up to 4.0000 mgd; Approval Date: January 8, 2021.

2. Pin Oak Energy Partners, LLC; Pad ID: Wolfinger Pad A—Beechwood; ABR-202101002; St. Mary's City, Elk County; and Shippen Township, Cameron County, Pa.; Consumptive Use of Up to 5.0000 mgd; Approval Date: January 8, 2021.

3. Cabot Oil & Gas Corporation; Pad ID: MerrittM P1; ABR-202101001; Gibson Township, Susquehanna County, Pa.; Consumptive Use of Up to 5.0000 mgd; Approval Date: January 18, 2021.

4. Seneca Resources Company, LLC; Pad ID: Gamble Pad I; ABR-201511002.R1; Gamble Township, Lycoming County, Pa.; Consumptive Use of Up to 4.0000 mgd; Approval Date: January 18, 2021.

5. Seneca Resources Company, LLC; Pad ID: Seymour 599; ABR-201009063.R2; Sullivan Township, Tioga County, Pa.; Consumptive Use of Up to 4.0000 mgd; Approval Date: January 18, 2021.

6. Seneca Resources Company, LLC; Pad ID: Martin 710; ABR-201009089.R2; Delmar Township, Tioga County, Pa.; Consumptive Use of Up to 4.0000 mgd; Approval Date: January 18, 2021.

7. Seneca Resources Company, LLC; Pad ID: SSHC Pad A; ABR-201009055.R2; Lawrence Township, Clearfield County, Pa.; Consumptive Use of Up to 4.0000 mgd; Approval Date: January 18, 2021.

8. Rockdale Marcellus, LLC; Pad ID: Ingalls 710; ABR-201009080.R2; Liberty Township, Tioga County, Pa.; Consumptive Use of Up to 4.9900 mgd; Approval Date: January 18, 2021.

9. Cabot Oil & Gas Corporation; Pad ID: DerianchoF P1; ABR-201011055.R2; Bridgewater Township, Susquehanna County, Pa.; Consumptive Use of Up to 5.0000 mgd; Approval Date: Janauary18, 2021.

10. XTO Energy, Inc.; Pad ID: PA TRACT 8546H; ABR-201010070.R2; Chapman Township, Clinton County, Pa.; Consumptive Use of Up to 4.0000 mgd; Approval Date: January 22, 2021.

11. Seneca Resources Company, LLC; Pad ID: Thomas 503; ABR-201007050.R2; Sullivan Township, Tioga County, Pa.; Consumptive Use of Up to 4.0000 mgd; Approval Date: January 22, 2021.

12. Chief Oil & Gas, LLC; Pad ID: Dacheux Drilling Pad #1; ABR-201101014.R2; Cherry Township, Sullivan County, Pa.; Consumptive Use of Up to 2.0000 mgd; Approval Date: January 22, 2021.

13. Seneca Resources Company, LLC; Pad ID: Smith 589; ABR-201009088.R2; Richmond Township, Tioga County, Pa.; Consumptive Use of Up to 4.0000 mgd; Approval Date: January 22, 2021.

14. ARD Operating, LLC; Pad ID: Harry W Stryker Pad A; ABR-201011044.R2; Cogan House Township, Lycoming County, Pa.; Consumptive Use of Up to 4.0000 mgd; Approval Date: January 22, 2021.

15. Cabot Oil & Gas Corporation; Pad ID: Ely P2; ABR-20080722.R2; Dimock Township, Susquehanna County, Pa.; Consumptive Use of Up to 5.0000 mgd; Approval Date: January 22, 2021.

16. Repsol Oil & Gas USA, LLC; Pad ID: WHEATON (05 223) W; ABR-201011072.R2; Windham Township, Bradford County, Pa.; Consumptive Use of Up to 6.0000 mgd; Approval Date: January 22, 2021.

17. Repsol Oil & Gas USA, LLC; Pad ID: PECK HILL FARM (05 180); ABR-201011056.R2; Windham Township, Bradford County, Pa.; Consumptive Use of Up to 6.0000 mgd; Approval Date: January 22, 2021.

18. Seneca Resources Company, LLC; Pad ID: Shaw Trust 500; ABR-201011070.R2; Sullivan Township, Tioga County, Pa.; Consumptive Use of Up to 4.0000 mgd; Approval Date: January 22, 2021.

19. Seneca Resources Company, LLC; Pad ID: Signor 583; ABR-201011059.R2; Covington Township, Tioga County, Pa.; Consumptive Use of Up to 4.0000 mgd; Approval Date: January 22, 2021.

20. Seneca Resources Company, LLC; Pad ID: Torpy & Van Order Inc. 574; ABR-201011043.R2; Covington Township, Tioga County, Pa.; Consumptive Use of Up to 4.0000 mgd; Approval Date: January 22, 2021.

21. Range Resources—Appalachia, LLC; Pad ID: Red Bend Hunting & Fishing Club Unit #3H-#5H Drilling Pad; ABR-201011067.R2; Cogan House Township, Lycoming County, Pa.; Consumptive Use of Up to 2.0000 mgd; Approval Date: January 22, 2021.

22. Seneca Resources Company, LLC; Pad ID: Brewer 258; ABR-201012013.R2; Jackson Township, Tioga County, Pa.; Consumptive Use of Up to 4.0000 mgd; Approval Date: January 24, 2021.

23. Range Resources—Appalachia, LLC; Pad ID: Fuller, Eugene Unit #1H-#3H Drilling Pad; ABR-201012004.R2; Mifflin Township, Lycoming County, Pa.; Consumptive Use of Up to 2.0000 mgd; Approval Date: January 24, 2021.

24. VEC Energy, LLC; Pad ID: Sylvester 1H; ABR-20100155.R1; Brookfield Township, Tioga County, Pa.; Consumptive Use of Up to 6.0000 mgd; Approval Date: January 28, 2021.

25. VEC Energy, LLC; Pad ID: NorthFork 1H; ABR-20100158.R1; Brookfield Township, Tioga County, Pa.; Consumptive Use of Up to 6.0000 mgd; Approval Date: January 28, 2021.

26. VEC Energy, LLC; Pad ID: Austinburg 1H; ABR-20100313.R1; Brookfield Township, Tioga County, Pa.; Consumptive Use of Up to 6.0000 mgd; Approval Date: January 28, 2021.

27. Pennsylvania General Energy Company, L.L.C.; Pad ID: Reed Run Norwich Pad D; ABR-201012028.R2; Norwich Township, McKean County, Pa.; Consumptive Use of Up to 3.5000 mgd; Approval Date: January 29, 2021.

28. Chesapeake Appalachia, L.L.C.; Pad ID: Kinnarney; ABR-201012030.R2; Albany Township, Bradford County, Pa.; Consumptive Use of Up to 7.5000 mgd; Approval Date: January 29, 2021.

29. Chesapeake Appalachia, L.L.C.; Pad ID: Norconk; ABR-201012023.R2; Wilmot Township, Bradford County, Pa.; Consumptive Use of Up to 7.5000 mgd; Approval Date: January 29, 2021.

30. XPR Resources, LLC; Pad ID: Resource Recovery Well Pad 3; ABR-201010060.R2; Snow Shoe Township, Centre County, Pa.; Consumptive Use of Up to 4.0000 mgd; Approval Date: January 29, 2021.

31. XPR Resources, LLC; Pad ID: Resource Recovery Well Pad 2; ABR-201011012.R2; Snow Shoe Township, Centre County, Pa.; Consumptive Use of Up to 4.0000 mgd; Approval Date: January 29, 2021.

32. Repsol Oil & Gas USA, LLC; Pad ID: SLOVAK (05 202) M; ABR-201012031.R2; Windham Township, Bradford County, Pa.; Consumptive Use of Up to 6.0000 mgd; Approval Date: January 29, 2021.

33. Seneca Resources Company, LLC; Pad ID: Vanvliet 614; ABR-201012044.R2; Delmar Township, Tioga County, Pa.; Consumptive Use of Up to 4.0000 mgd; Approval Date: January 29, 2021.

34. Seneca Resources Company, LLC; Pad ID: Swingle 591; ABR-201012018.R2; Delmar Township, Tioga County, Pa.; Consumptive Use of Up to 4.0000 mgd; Approval Date: January 29, 2021.

35. Cabot Oil & Gas Corporation; Pad ID: AbbottD P2; ABR-201512003.R1; Bridgewater Township, Susquehanna County, Pa.; Consumptive Use of Up to 5.0000 mgd; Approval Date: January 29, 2021.

36. Cabot Oil & Gas Corporation; Pad ID: HowellG P1; ABR-201512004.R1; Auburn Township, Susquehanna County, Pa.; Consumptive Use of Up to 5.0000 mgd; Approval Date: January 29, 2021.

37. Cabot Oil & Gas Corporation; Pad ID: Jeffers Farm P5; ABR-201512005.R1; Gibson Township, Susquehanna County, Pa.; Consumptive Use of Up to 5.0000 mgd; Approval Date: January 29, 2021.

38. Seneca Resources Company, LLC; Pad ID: Harsell 883; ABR-201007066.R2; Nelson Township, Tioga County, Pa.; Consumptive Use of Up to 4.0000 mgd; Approval Date: January 31, 2021.

39. Range Resources—Appalachia, LLC; Pad ID: Lone Walnut Hunting Club; ABR-201007031.R2; Cummings Township, Lycoming County, Pa.; Consumptive Use of Up to 2.0000 mgd; Approval Date: January 31, 2021.

40. Range Resources—Appalachia, LLC; Pad ID: Winner Unit #2H-#5H Drilling Pad; ABR-201012050.R2; Gallagher Township, Clinton County, Pa.; Consumptive Use of Up to 2.0000 mgd; Approval Date: January 31, 2021.

41. Chesapeake Appalachia, L.L.C.; Pad ID: Aukema; ABR-201101013.R2; Meshoppen Township, Wyoming County, Pa.; Consumptive Use of Up to 7.5000 mgd; Approval Date: January 31, 2021.

42. Chesapeake Appalachia, L.L.C.; Pad ID: Beech Flats; ABR-201101012.R2; West Branch Township, Potter County, Pa.; Consumptive Use of Up to 7.5000 mgd; Approval Date: January 31, 2021.

43. Chesapeake Appalachia, L.L.C.; Pad ID: Bo; ABR-201101016.R2; Tuscarora Township, Bradford County, Pa.; Consumptive Use of Up to 7.5000 mgd; Approval Date: January 31, 2021.

44. Chesapeake Appalachia, L.L.C.; Pad ID: Meng; ABR-201101005.R2; Albany Township, Bradford County, Pa.; Consumptive Use of Up to 7.5000 mgd; Approval Date: January 31, 2021.

45. Chesapeake Appalachia, L.L.C.; Pad ID: Rocks; ABR-201101003.R2; Overton Township, Bradford County, Pa.; Consumptive Use of Up to 7.5000 mgd; Approval Date: January 31, 2021.

46. Chesapeake Appalachia, L.L.C.; Pad ID: Struble; ABR-201101017.R2; Litchfield Township, Bradford County, Pa.; Consumptive Use of Up to 7.5000 mgd; Approval Date: January 31, 2021.

47. Chesapeake Appalachia, L.L.C.; Pad ID: Wasyl; ABR-201101002.R2; Ulster Township, Bradford County, Pa.; Consumptive Use of Up to 7.5000 mgd; Approval Date: January 31, 2021.

Authority: Pub. L. 91-575, 84 Stat. 1509 et seq., 18 CFR parts 806, 807, and 808.

Dated: March 15, 2021.
Jason E. Oyler,
General Counsel and Secretary to the Commission.

[FR Doc. 2021-05608 Filed 3-17-21; 8:45 am]

BILLING CODE 7040-01-P